NUCLEAR REGULATORY COMMISSION

[Docket No. 50-247]

Consolidated Edison Company of New York, Inc.; Notice of Consideration of Issuance of Amendment to Facility Operating License, Proposed No Significant Hazards Consideration Determination, and Opportunity for a Hearing

The U.S. Nuclear Regulatory Commission (the Commission) is considering issuance of an amendment to Facility Operating License No. DPR-26 issued to Consolidated Edison Company of New York, Inc (the licensee) for operation of the Indian Point Nuclear Generating Unit No. 2, located in Westchester County, New York.

The proposed amendment would revise Technical Specifications (TSs) and associated basis pages to incorporate changes based on NUREG-1465 alternate source term analysis. Specifically, (1) change the title of 4.5.D of the table of contents to delete the words “Air Filtration”, this proposed change is to reflect the revised function of the system to cooling of containment only, as a result of the proposed deletion of high-efficiency particulate air (HEPA) and charcoal filters; (2) revise TS 3.3.B.1.b. to delete the words “charcoal filter”, this proposed change reflects the deletion of the charcoal filters from the fan cooler units; (3) change TS 3.8.B.4 “174 hours” to “100 hours”, this proposed change reflects the reanalysis for the minimum time for radioactive decay before moving fuel; (4) revise TS 3.8.B.8 to delete “and at least one personnel door in the equipment door or closure plate and in the personnel air lock”, this proposed change reflects a reanalysis of the fuel handling accident where no credit is taken for containment isolation; (5) revise TS 4.5.D. to delete the words “AIR FILTRATION”, this proposed change is to reflect the revised function of the system to cooling of containment only, as a result of the proposed deletion of HEPA and charcoal filters; (6) modify TS 4.5.D.1 and TS 4.5.E.1 to change “per 31 days” to “monthly”, and delete the words “HEPA filters and charcoal adsorbers”, this proposed change would make the terminology consistent as defined in the specifications. Monthly and 31 days are used synonymously. Deletion of testing requirements is consistent with the proposed deletion of the filters themselves; (7) revise TS 4.5.D.2 to change “65,600 cfm +/−10%” to “greater than or equal to 64,500 cfm.” and delete the remaining parts of 4.5.D.2 and 4.5.D.3 through 4.5.D.6. This proposed change is to specify the flows consistent with the reanalysis of design-basis accidents. utilizing the NUREG-1465 alternate source term. The +/−10% is no longer required, since a residence time for charcoal filters need not be specified after the filters are removed. The remaining parts of this specification relate to testing of filters, which are themselves being removed; (8) revise TS 4.5.E.2.a, b, c, 4.5.E.4.a, 4.5.E.5, and 6 to change “1840 cfm” to “2000 cfm”, this proposed change would modify the flow rate to be consistent with the current design of the control room filtration system and assumptions in the reanalysis of the design-basis accidents; (9) revise TS 4.5.E.4.b to change “recirculation” to “filtered-intake”, this proposed change would modify the flow rate to be consistent with the current design of the control room filtration system and assumptions in the reanalysis of the design-basis accidents; (10) revise TS 4.5.E.4.c to change “outside atmosphere” to “adjacent areas”, this proposed change would modify the acceptance criteria for testing control rooms to conform with regulatory guidance; (11) revise TS 5.2.D.2 to delete “All the fan cooler units are equipped with activated charcoal filters to remove volatile iodine following an accident”, this proposed change reflects the proposed deletion of the charcoal filters from the fan cooler units. TS Basis would be revised as follows: (1) TS Basis page 3.3-13 would be revised to delete “plus charcoal filters”, (2) TS Basis page 3.3-15 would be revised to delete “plus charcoal filters”, (3) TS Basis page 3.8-5 would be modified to change “174 hours” to “100 hours” and the last sentence would be modified to state “The analysis of the fuel handling accident inside and outside containment takes no credit for removal of radioactive iodine by charcoal filters”, and (4) TS Basis page 4.5-10 would be revised to delete the fourth paragraph and “and/or recirculation” would be deleted from the fifth paragraph.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

The proposed changes do not involve a significant hazards consideration because:

1. There is no significant increase in the probability or consequences of an accident previously evaluated.

These changes do not affect possible initiating events for accidents previously evaluated. Limiting Safety System Settings and Safety Limits specified in the current Technical Specifications remain unchanged. Therefore, the proposed changes to the subject Technical Specifications would not increase the probability of an accident previously evaluated. The re-analysis of design basis accidents described above demonstrate that compliance with regulatory dose acceptance criteria continue to be met. Therefore, the proposed changes to the subject Technical Specifications would not significantly increase the consequences of an accident previously evaluated.

2. The possibility of a new or different kind of accident from any accident previously evaluated has not been created.

The proposed physical changes to the facility have been evaluated, and the plant conditions for which the design basis accidents have been evaluated are still valid. The operating procedures and emergency procedures will be changed to reflect these changes. Consequently, no new failure modes are introduced as a result of the proposed changes. Therefore, the proposed changes will not initiate any new or different kind of accident.

3. There has been no significant reduction in the margin of safety.

The revised Indian Point 2 design basis accident offsite and control room dose calculations, performed with the improved knowledge base and with the modeling of proposed plant changes, remain within regulatory acceptance criteria (10 CFR 100 and 10 CFR 50 Appendix A General Design Criterion 19, respectively) utilizing the TEDE dose acceptance criteria directed by the Commission for use in SECY-96-242. An acceptable margin of safety is inherent in these licensing acceptance limits. Therefore, there is no significant reduction in the margin of safety.

The NRC staff has reviewed the licensee's analysis and, based on this review, it appears that the three standards of 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By February 22, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to Mr. Brent L. Brandenburg, Assistant General Counsel, Consolidated Edison Company of New York, Inc., 4 Irving Place—1822, New York, NY 10003, attorney for the licensee.

Nontimely filings of petitions for leave to intervene, amended petitions, supplemental petitions and/or requests for hearing will not be entertained absent a determination by the Commission, the presiding officer or the presiding Atomic Safety and Licensing Board that the petition and/or request should be granted based upon a balancing of the factors.

For further details with respect to this action, see the application for amendment dated November 18, 1999, which is available for public inspection at the Commission's Public Document Room, the Gelman Building, 2120 L Street, NW., Washington, DC, and accessible electronically through the ADAMS Public Electronic Reading Room link at the NRC Web site (http://www.nrc.gov).

Dated at Rockville, Maryland, this 13th day of January 2000.
For the Nuclear Regulatory Commission.
Jefferey F. Harold,
Project Manager, Section 1, Project Directorate I, Division of Licensing Project Management, Office of Nuclear Reactor Regulation.

[FR Doc. 00-1303 Filed 1-19-00; 8:45 am]

BILLING CODE 7590-01-P